SECURITIES AND EXCHANGE COMMISSION

Sunshine Act Meetings

TIME AND DATE: Notice is hereby given, pursuant to the provisions of the Government in the Sunshine Act, Public Law 94-409, that the Securities and Exchange Commission will hold an Open Meeting on Wednesday, March 15, 2023 at 10:00 a.m.

PLACE: The meeting will be webcast on the Commission's website at www.sec.gov.

STATUS: This meeting will begin at 10:00 a.m. and will be open to the public via webcast on the Commission's website at www.sec.gov.

MATTERS TO BE CONSIDERED:

1. The Commission will consider whether to propose amendments to rules under Regulation S-P to require brokers and dealers, investment companies, and investment advisers registered with the Commission to adopt written policies and procedures for incident response programs to address unauthorized access to or use of customer information, including procedures for providing timely notification to certain affected individuals. The proposed amendments would also broaden the scope of information covered under these rules and extend application of these rules to cover transfer agents registered with the Commission or another appropriate regulatory authority. The Commission will also consider whether to propose corresponding amendments to recordkeeping rules under the Securities Exchange Act of 1934 (“Exchange Act”), Investment Company Act of 1940, and Investment Advisers Act of 1940. Finally, the Commission will also consider whether to propose amendments to conform annual privacy notice delivery provisions to the terms of an exception provided by a statutory amendment to the Gramm-Leach-Bliley Act.

2. The Commission will consider whether to propose a new rule and form and certain related rule and exemptive order amendments under the Exchange Act to require certain registrants under the Exchange Act to address their cybersecurity risks through policies and procedures, notification and reporting to the Commission, public disclosure, and record retention. The proposed cybersecurity requirements would apply to broker-dealers, clearing agencies, major security-based swap participants, the Municipal Securities Rulemaking Board, national securities associations, national securities exchanges, security-based swap data repositories, security-based swap dealers, and transfer agents.

3. The Commission will consider whether to propose amendments to Regulation SCI under the Exchange Act to expand the scope of entities subject to Regulation SCI and to update certain provisions of Regulation SCI.

CONTACT PERSON FOR MORE INFORMATION: For further information and to ascertain what, if any, matters have been added, deleted or postponed, please contact Vanessa A. Countryman from the Office of the Secretary at (202) 551-5400.

Authority: 5 U.S.C. 552b.

Dated: March 8, 2023.
Vanessa A. Countryman,
Secretary.

[FR Doc. 2023-05138 Filed 3-9-23; 11:15 am]

BILLING CODE 8011-01-P